ENVIRONMENTAL PROTECTION AGENCY

[FRL-9714-01-OA]

Request for Nominations for the Science Advisory Board IRIS Chloroform (Inhalation) Review Panel

AGENCY: Environmental Protection Agency (EPA).

ACTION: Notice.

SUMMARY: The Environmental Protection Agency (EPA) Science Advisory Board (SAB) Staff Office requests public nominations of scientific experts to form a Panel to review the draft EPA Integrated Risk Information System (IRIS) Toxicological Review of Chloroform (Inhalation). The draft cancer and non-cancer assessment includes a hazard identification analysis, which summarizes the available evidence on health effects that may be associated with environmental or occupational exposure, and dose-response analysis, which characterizes the quantitative relationship between chloroform inhalation exposure and each credible health hazard. The SAB Chloroform Review Panel will consider whether the conclusions found in the EPA's draft assessment are clearly presented and scientifically supported. The Panel will also be asked to provide recommendations on how the assessment may be strengthened.

DATES: Nominations should be submitted by April 29, 2022 per the instructions below.

FOR FURTHER INFORMATION CONTACT: Any member of the public wishing further information regarding this Notice and Request for Nominations may contact Dr. Suhair Shallal, Designated Federal Officer (DFO), EPA Science Advisory Board via telephone/voice mail (202) 564-2057, or email at shallal.suhair@epa.gov. General information concerning the EPA SAB can be found at the EPA SAB website at https://sab.epa.gov.

SUPPLEMENTARY INFORMATION: Background: The SAB (42 U.S.C. 4365) is a chartered Federal Advisory Committee that provides independent scientific and technical peer review, advice, and recommendations to the EPA Administrator on the technical basis for EPA actions. As a Federal Advisory Committee, the SAB conducts business in accordance with the Federal Advisory Committee Act (FACA) (5 U.S.C. app. 2) and related regulations. The SAB Staff Office is forming an expert panel, the SAB Chloroform Review Panel, under the auspices of the Chartered SAB. The SAB Chloroform Review Panel will provide advice through the chartered SAB. The SAB and the SAB Chloroform Review Panel will comply with the provisions of FACA and all appropriate SAB Staff Office procedural policies.

The SAB Chloroform Review Panel will conduct a review of the draft EPA IRIS Toxicological Review of Chloroform (Inhalation). The draft cancer and non-cancer assessment includes a hazard identification analysis, which summarizes the chemical properties, pharmacokinetics, and health effects associated with environmental or occupational exposure, and dose-response analysis, which characterizes the quantitative relationship between chemical exposure and each credible health hazard. The SAB Chloroform Review Panel will consider whether the conclusions found in the EPA's draft assessment are clearly presented and scientifically supported. The Panel will also be asked to provide recommendations on how the assessment may be strengthened.

Request for Nominations: The SAB Staff Office is seeking nominations of nationally and internationally recognized scientists with demonstrated expertise in the following disciplines: Toxicology, specifically inhalation toxicology/dosimetry, hepatic and nephrological toxicology; epidemiology; systematic review; physiologically-based pharmacokinetic (PBPK) modeling; carcinogenesis; risk assessment; dose response analysis.

Process and Deadline for Submitting Nominations: Any interested person or organization may nominate qualified individuals in the areas of expertise described above for possible service on the SAB Panel. Individuals may self-nominate. Nominations should be submitted in electronic format (preferred) using the online nomination form on the SAB website at https://sab.epa.gov (see the “Public Input on Membership” list under “Committees, Panels, and Membership”). To be considered, nominations should include the information requested below. EPA values and welcomes diversity. All qualified candidates are encouraged to apply regardless of sex, race, disability, or ethnicity. Nominations should be submitted in time to arrive no later than April 29, 2022.

The following information should be provided on the nomination form: Contact information for the person making the nomination; contact information for the nominee; and the disciplinary and specific areas of expertise of the nominee. Nominees will be contacted by the SAB Staff Office and will be asked to provide a recent curriculum vitae and a narrative biographical summary that includes: Current position, educational background; research activities; sources of research funding for the last two years; and recent service on other national advisory committees or national professional organizations. Persons having questions about the nomination procedures, or who are unable to submit nominations through the SAB website, should contact the DFO at the contact information noted above. The names and biosketches of qualified nominees identified by respondents to this Federal Register notice, and additional experts identified by the SAB Staff Office, will be posted in a List of Candidates for the Panel on the SAB website at https://sab.epa.gov. Public comments on the List of Candidates will be accepted for 21 days. The public will be requested to provide relevant information or other documentation on nominees that the SAB Staff Office should consider in evaluating candidates.

For the EPA SAB Staff Office a balanced review panel includes candidates who possess the necessary domains of knowledge, the relevant scientific perspectives (which, among other factors, can be influenced by work history and affiliation), and the collective breadth of experience to adequately address the charge. In forming the expert panel, the SAB Staff Office will consider public comments on the Lists of Candidates, information provided by the candidates themselves, and background information independently gathered by the SAB Staff Office. Selection criteria to be used for panel membership include: (a) Scientific and/or technical expertise, knowledge, and experience (primary factors); (b) availability and willingness to serve; (c) absence of financial conflicts of interest; (d) absence of an appearance of a loss of impartiality; (e) skills working in committees, subcommittees and advisory panels; and, (f) for the panel as a whole, diversity of expertise and scientific points of view.

The SAB Staff Office's evaluation of an absence of financial conflicts of interest will include a review of the “Confidential Financial Disclosure Form for Environmental Protection Agency Special Government Employees” (EPA Form 3110-48). This confidential form is required and allows government officials to determine whether there is a statutory conflict between a person's public responsibilities (which include membership on an EPA federal advisory committee) and private interests and activities, or the appearance of a loss of impartiality, as defined by federal regulation. The form may be viewed and downloaded through the “Ethics Requirements for Advisors” link on the SAB website at https://sab.epa.gov. This form should not be submitted as part of a nomination.

The approved policy under which the EPA SAB Office selects members for subcommittees and review panels is described in the following document: Overview of the Panel Formation Process at the Environmental Protection Agency Science Advisory Board (EPA-SAB-EC-02-010), which is posted on the SAB website at https://sab.epa.gov.

Thomas Brennan,
Director, Science Advisory Board Staff Office.

[FR Doc. 2022-07535 Filed 4-7-22; 8:45 am]

BILLING CODE 6560-50-P